DEPARTMENT OF DEFENSE

Department of the Army

Army Education Advisory Subcommittee; Meeting Notice

AGENCY: Department of the Army, DoD.

ACTION: Notice of open meeting.

SUMMARY: Under the provisions of the Federal Advisory Committee Act of 1972 (5 U.S.C., Appendix, as amended), the Government in the Sunshine Act of 1976 (5 U.S.C. 552b, as amended) and 41 CFR 102-3.150, the Department of Defense announces that the following Federal advisory committee meeting will take place:

Name of Committee: Board of Visitors (BoV), Defense Language Institute Foreign Language Center Subcommittee.

Date: July 31, 2013 and August 1, 2013.

Time of Meeting: Approximately 7:45 a.m. through 4:30 p.m. Please allow extra time for gate security for both days.

Location: Defense Language Institute Foreign Language Center and Presidio of Monterey (DLIFLC & POM), Building 614, Conference Room, Monterey, CA 93944.

Purpose of the Meeting: The purpose of the meeting is to provide an overview of DLIFLC's Foreign Language Program to the BoV. In addition, the meeting will involve administrative matters.

Proposed Agenda: Summary—July 31—Board administrative details and orientation to DLIFLC class size and DLIFLC foreign language potential. August 1—The Board will be briefed on items of interest to DLIFLC and BoV, if applicable, and will have time to compile observations pertaining to agenda items on July 31 and August 1. Deliberations leading to provisional findings will be referred to the Army Education Advisory Committee for deliberation by the Committee under the open-meeting rules.

FOR FURTHER INFORMATION CONTACT: For information contact Dr. Robert Savukinas, Sub-Committee's Alternate Designated Federal Officer: ATFL-APO, Monterey, CA, 93944, Robert.Savukinas@us.army.mil, (831) 242-5828.

SUPPLEMENTARY INFORMATION: Public's Accessibility to the Meeting: Pursuant to 5 U.S.C. 552b and 41 CFR 102-3.140 through 102-3.165, this meeting is open to the public however, any member of the public wishing to attend this meeting should contact the Subcommittee's Alternate Designated Federal Officer (see FOR FURTHER INFORMATION CONTACT) at least ten calendar days prior to the meeting for information on base entry. Individuals without a DoD Government Common Access Card require an escort at the meeting location. Seating is on a first-come basis.

Filing Written Statement: Pursuant to 41 CFR 102.3.140(d), the Subcommittee is not obligated to allow the public to speak, however, any member of the public, including interested organizations, wishing to provide input to the Subcommittee concerning the subcommittee's mission and functions, should submit a written statement in accordance with 41 CFR 102-3.105(j) and 41 CFR 102-3.140(c) and section 10(a)(3) of the Federal Advisory Committee Act and the procedures described in this paragraph. Written statements can be submitted to the Subcommittee Alternate Designated Federal Officer at the address listed (see FOR FURTHER INFORMATION CONTACT). Statements being submitted in response to the stated agenda mentioned in this notice must be received at least ten calendar days prior to the meeting which is the subject of this notice. Written statements received after this date may not be provided to or considered by the Advisory Committee until its next meeting. The Subcommittee Alternate Designated Federal Officer will review all timely submissions with the Subcommittee Chairperson and ensure they are provided to members of the Subcommittee before the meeting that is the subject of this notice. No member of the public attending open meetings will be allowed to present questions from the floor or speak to any issue under consideration by the Board.

Brenda S. Bowen,
Army Federal Register Liaison Officer.

[FR Doc. 2013-15447 Filed 6-27-13; 8:45 am]

BILLING CODE 3710-08-P